DEPARTMENT OF COMMERCE

International Trade Administration

[C-507-501; C-507-601]

Certain In-Shell Pistachios from Iran and Certain In-Shell Roasted Pistachios from Iran: Extension of Time Limit for Preliminary Results of Countervailing Duty New Shipper Reviews

AGENCY: Import Administration, International Trade Administration, Department of Commerce.

ACTION: Notice of Extension of Time Limit for Preliminary Results of Countervailing Duty New Shipper Reviews.

EFFECTIVE DATE: April 24, 2002.

FOR FURTHER INFORMATION CONTACT: Eric B. Greynolds or Darla Brown, AD/CVD Enforcement, Office VI, Group II, Import Administration, International Trade Administration, U.S. Department of Commerce, 14th Street and Constitution Avenue, NW, Washington, DC 20230; telephone: (202) 482-2786.

SUPPLEMENTARY INFORMATION:

Time Limits:

Statutory Time Limits

Section 751(a)(2)(B)(iv) of the Tariff Act of 1930, as amended (the Act), requires the Department of Commerce (the Department) to make a preliminary determination within 180 days after the date on which the review is initiated and a final determination within 90 days after the date the preliminary determination is issued. However, if the Department concludes that the case is extraordinarily complicated such that it cannot complete the review within these time periods, section 751(a)(2)(B)(iv) of the Act allows the Department to extend the time limit for the preliminary determination to a maximum of 300 days and 150 days for the final determination from the date of publication of the preliminary determination.

Background

On November 7, 2001, and November 27, 2001, the Department published notices of initiation of new shipper reviews of the countervailing duty orders on certain in-shell pistachios from Iran and certain in-shell roasted pistachios from Iran covering the period October 1, 2000 through September 30, 2001 (66 FR 59277 and 66 FR 59235, respectively). The preliminary results are currently due no later than April 29, 2002 for certain in-shell pistachios and May 18, 2002 for certain in-shell roasted pistachios.

Extension of Time Limit for Preliminary Results of Review

We determine that these cases are extraordinarily complicated because there are a large number of complex issues which require thorough consideration and analysis by the Department, including allegations of new subsidy programs that were not examined during the original investigations and a complex system of exchange rates in Iran. Consequently, we are not able to complete the preliminary results of these reviews within the time limit. Therefore, the Department is extending the time limit for completion of the preliminary results for both of these new shipper reviews until no later than August 27, 2002. This date is the full 120 days extension for the new shipper review of in-shell pistachios. We intend to issue the final results no later than 90 days after the publication of the preliminary results notice.This extension is in accordance with section 751(a)(2)(B)(iv) of the Act.

Dated: April 18, 2002
Bernard T. Carreau,
Deputy Assistant Secretary for Import Administration.

[FR Doc. 02-10069 Filed 4-23-02; 8:45 am]

BILLING CODE 3510-DS-S